DEPARTMENT OF TRANSPORTATION

Federal Highway Administration

Notice of Final Federal Agency Actions on the Proposed U.S. 50 Study Crossing Over Sinepauxent Bay in the Town of Ocean City, Worcester County, Maryland

Correction

In notice document 2013-22541 appearing on page 58382 in the issue of Monday, September 23, 2013, make the following correction:

On page 58382 in the second column, in the eighteenth line, “February 20, 2013” should read “February 20, 2014”.

[FR Doc. C1-2013-22541 Filed 9-26-13; 8:45 am]

BILLING CODE 1505-01-P